FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 31, 2005.

A. Federal Reserve Bank of Richmond (A. Linwood Gill, III, Vice President) 701 East Byrd Street, Richmond, Virginia 23261-4528:

1. James R. Camp, Joseph C. Camp, and Margaret A. Sterbutzel, all of Morgantown, West Virginia; to retain voting shares of Morgantown Bancshares, Inc., Morgantown, West Virginia, and thereby indirectly retain voting shares of Citizens Bank of Morgantown, Inc., Morgantown, West Virginia.

B. Federal Reserve Bank of Philadelphia (Michael E. Collins, Senior Vice President) 100 North 6th Street, Philadelphia, Pennsylvania 19105-1521:

1. The Willits Family Partnership, Malvern, Pennsylvania, and its general partner, the Willits Family Trust, Malvern, Pennsylvania, and its trustees Barbara Willits Shipp, Lydia Willits Bartholomew, William L.W. Shipp, and Jamie Bartholomew, all of West Chester, Pennsylvania; to acquire voting shares of Malvern Bank Corporation, Malvern, Pennsylvania, and thereby indirectly acquire voting shares of The National Bank of Malvern, Malvern, Pennsylvania.

Board of Governors of the Federal Reserve System, May 10, 2005.
Robert deV. Frierson,
Deputy Secretary of the Board.

[FR Doc. 05-9732 Filed 5-13-05; 8:45 am]

BILLING CODE 6210-01-S